OFFICE OF PERSONNEL MANAGEMENT

Agency Information Collection Request: Federal Employees Dental and Vision Insurance Program Enrollment System, 3206-0272 Renewal

AGENCY: Office of Personnel Management.

ACTION: 30-Day notice and request for comments.

SUMMARY: The Office of Personnel Management (OPM) is seeking approval from the Office of Management and Budget (OMB) for the information collection described below. As required by the Paperwork Reduction Act of 1995, amended by the Clinger-Cohen Act, OPM is soliciting comments for this collection. The purpose of this notice is to allow for 30 days of public comment.

DATES: Comments are encouraged and will be accepted until November 24, 2025. This process is conducted in accordance with 5 CFR 1320.8(d)(1).

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: A copy of this information collection request (ICR), with applicable supporting documentation, may be obtained by contacting Meredith Gitangu, Office of Personnel Management, (202) 606-2678, or send via electronic mail to FEDVIP@opm.gov.

SUPPLEMENTARY INFORMATION: As required by the Paperwork Reduction Act of 1995, 44 U.S.C. 3506(c)(2), OPM is soliciting comments for this collection. The Federal Register notice that solicited public comment on the information collection for a period of 60 days was published on April 25, 2025, at 90 FR 17471. The 60-day comment period closed June 24, 2025. Two (2) comments were received. One commenter commented on OPM changing information to align with E.O. 14168. The commenter responded to OPM's plans to change information relating to gender by raising concerns of discrimination, impacts on mental health and health equity, labor rights and equal access, accessibility of digital access for low-income and rural communities, enforcement transparency, and the impact of federal workers' dignity. OPM thanks the commenter for their submission. As a federal agency, OPM must comply with Section 3(e) of E.O. 14168 requiring forms to list an individual's sex as male or female and not request gender identity.

The other commenter recommended a National Health Care System and prohibition of private insurance of any kind. OPM thanks the commenter for the input and has determined this comment is outside the scope of this Paperwork Reduction Act (PRA) activity.

The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Abstract: The Federal Employees Dental and Vision Insurance Program Enrollment System uses BENEFEDS, which is the secure enrollment website sponsored by OPM that allows eligible individuals to enroll or change enrollment in a FEDVIP plan. OPM uses this enrollment system to carry out its responsibility to administer FEDVIP in accordance with 5 U.S.C. chapters 89A and 89B and implementing regulations (5 CFR part 894).

Analysis

Agency: Office of Personnel Management.

Title: Federal Employees Dental and Vision Insurance Program (FEDVIP) Enrollment System.

OMB Number: 3206-0272.

Frequency: Annual.

Affected Public: Individuals or Households.

Number of Respondents: 502,347.

Estimated Time per Respondent: 7.03 minutes.

Total Burden Hours: 58,775 hours.

Alexys Stanley,
Federal Register Liaison.

[FR Doc. 2025-19643 Filed 10-22-25; 8:45 am]

BILLING CODE 6325-64-P